DEPARTMENT OF LABOR

Employment and Training Administration

[TA-W-55,611]

KM Company, Including On-Site Leased Workers of AngKor, San Francisco, CA; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance and Alternative Trade Adjustment Assistance on October 19, 2004, applicable to workers of KM Company, San Francisco, California. The notice was published in the Federal Register on November 12, 2004 (69 FR 65462).

At the request of a company official, the Department reviewed the certification for workers of the subject firm. New information shows that leased employees of AngKor were working on-site at KM Company, San Francisco, California.

Based on these findings, the Department is amending this certification to include workers of AngKor working on-site at KM Company, San Francisco, California.

The intent of the Department's certification is to include all workers at KM Company, who were adversely affected by increased imports.

The amended notice applicable to TA-W-55,611 is hereby issued as follows:

All workers of KM Company, San Francisco, California, including leased on-site workers of AngKor, who became totally or partially separated from employment on or after September 1, 2003, through October 19, 2006, are eligible to apply for adjustment assistance under Section 223 of the Trade Act of 1974, and are also eligible to apply for alternative trade adjustment assistance under Section 246 of the Trade Act of 1974.

Signed at Washington, DC, this 5th day of January 2005.
Linda G. Poole,
Certifying Officer, Division of Trade Adjustment Assistance.

[FR Doc. E5-208 Filed 1-19-05; 8:45 am]

BILLING CODE 4510-30-P